Executive Order 14045 of September 13, 2021

White House Initiative on Advancing Educational Equity, Excellence, and Economic Opportunity for Hispanics

By the authority vested in me as President by the Constitution and the laws of the United States of America, it is hereby ordered as follows:

Section 1. Policy. Nearly 14 million students in our Nation's public elementary and secondary school system and nearly 4 million students in post-secondary education are Hispanic. Hispanic students constitute more than 27 percent of all pre-kindergarten through 12th grade students and nearly 20 percent of college students. The Nation's future prosperity and global leadership across industries is therefore tied to the success of Hispanic and Latino students, and their success is a priority of my Administration.

From advancements in science and civil and labor rights to leadership in government, advocacy, entrepreneurship, and business, the Hispanic community has had a profound and positive impact on our schools, our communities, our economy, and our Nation. Hispanic and Latino communities encompass many racial and cultural identities that span the globe. The diversity of Hispanic and Latino students makes our classrooms across the country rich learning environments. It is important to ensure that from early childhood to higher education, Hispanic and Latino students, including Dreamers, can reach their highest potential. For many Hispanic and Latino students, Hispanic-Serving Institutions (HSIs) provide critical pathways to opportunity, and hundreds of HSIs across our Nation are advancing intergenerational mobility, success, and opportunity.

At the same time, Hispanic and Latino students face systemic inequitable barriers in accessing a high-quality education and a fair shot at the American dream. Only 40 percent of Latino children participate in preschool education programs as compared to 53 percent of their White peers. Due to systemic and historical inequities faced in the classroom, the high school graduation rate for Hispanic students is below the national average. Hispanic students are underrepresented in advanced courses in mathematics and science, and they can face language barriers in the classroom. Only 19 percent of Latino adults have at least a bachelor's degree compared with 1 in 3 overall, and just 6 percent have completed graduate or professional degree programs, versus 13 percent nationally. Further, the lack of availability of adult continuing education courses makes it difficult for many Hispanic adults to further their education. In addition, barriers to equity in education can compound and intersect for Hispanic and Latino students who are women and girls, LGBTQ+ individuals, English language learners, and individuals with disabilities.

The COVID-19 pandemic has laid bare and exacerbated many of these inequities. Hispanic and Latino students are more likely than their White peers to experience remote learning arrangements, yet they have less access to the tools necessary to succeed, such as broadband and computer access. Hispanic women have been adversely impacted by job loss, a lack of access to child care, and the inability to provide care, in greater numbers than their White counterparts. These and pre-existing disparities have led to declines in student achievement for Hispanic students. Latino students—once the fastest-growing group of undergraduates in the United States—have seen a decline in undergraduate college attendance amidst the COVID-19 pandemic. It is a priority of my Administration to ensure an equitable recovery from COVID-19, and to provide Hispanic and Latino students with a successful return to the classroom.

These barriers exist not simply in the classroom, but also in the workplace. Hispanic workers are overrepresented in industries that have been hit hardest by the COVID-19 pandemic, and they have faced disproportionate losses in employment. Hispanic and Latino workers often face discrimination in hiring, pay, and consideration for promotions among other challenges. They need greater access to work-based learning opportunities such as mentorships, internships, and registered apprenticeships that not only guide employment seekers to a career, but provide the experience needed to secure well-paying jobs.

To ensure that our Nation reaches the ambitious goals we have set for our economy to thrive, as well as to ensure equal access to opportunity for all, we must enable Hispanic and Latino students to reach their highest potential through our Nation's schools and institutions of higher education. The Federal Government must also collaborate with Hispanic and Latino communities to ensure their long-term success.

It is the policy of my Administration to advance educational equity, excellence, and economic opportunity for Hispanic communities from early childhood until their chosen career.

Sec. 2. White House Initiative on Advancing Educational Equity, Excellence, and Economic Opportunity for Hispanics.

(a) To advance equity in our Nation's schools and to promote the economic opportunity that follows it, there is established in the Department of Education (Department), the White House Initiative on Advancing Educational Equity, Excellence, and Economic Opportunity for Hispanics (Initiative), of which the Secretary of Education (Secretary) shall serve as Chair. The Secretary shall designate an Executive Director for the Initiative (Executive Director).

(b) The Initiative shall advance educational equity and economic opportunity for Latino and Hispanic students, families, and communities by focusing on the following policy goals:

(i) increasing general understanding of systemic causes of educational challenges faced by many Hispanic and Latino students, whether these students are in urban, suburban, rural, or migrant learning environments, and working across Federal agencies to address these challenges;

(ii) increasing Hispanic and Latino children's and families' access to and participation in high-quality early childhood programs and services that promote children's healthy development and learning, prepare them for success in school, and affirm their cultural and linguistic identity;

(iii) addressing the inequitable treatment of Hispanic and Latino children, such as eradicating disparities in disciplinary actions;

(iv) supporting and improving data collection related to Hispanic and Latino students and the implementation of evidence-based strategies to increase the participation and success of Hispanic and Latino students in all levels of education and prepare them for careers and civic engagement;

(v) ensuring that all Hispanic and Latino students have access to excellent teachers, school leaders, and other professionals, including by supporting efforts to improve the recruitment, preparation, development, and retention of qualified, diverse teachers and school leaders and other professionals who understand students' lived experiences and can effectively meet their learning, social, and emotional needs;

(vi) enhancing student support services and fostering positive engagement among schools, families, community leaders, and community-based organizations to increase the high school graduation and post-secondary attendance rates and decrease the high school dropout rate for Hispanic and Latino students;

(vii) promoting a positive school climate that supports equitable access to and participation in college-readiness, advanced placement courses, and internship opportunities, as well as innovative dropout prevention and recovery strategies that better engage Hispanic and Latino youth in their learning, help them progress academically as needed, and provide those who have left the educational system with pathways to reentry;

(viii) eliminating discriminatory enrollment, housing, transportation, and other policies that lead to racial and socioeconomic segregation among and within schools;

(ix) ensuring equitable access to educational resources, professionals, and technology, including by addressing racial disparities in school funding and expenditures;

(x) breaking down barriers that impede the access of higher education institutions that serve Hispanic and Latino students, such as HSIs, to Federal funding, and strengthening the capacity of those institutions to participate in Federal programs and partnerships;

(xi) advancing racial equity and economic opportunity by connecting education to labor market needs through programs such as dual enrollment, career and technical education, registered apprenticeships, work-based learning, and career advancement, particularly in the fields of science, technology, engineering, and mathematics; and

(xii) ensuring that Hispanic and Latino communities have access to resources for economic success, such as in the areas of financial education, small business development, entrepreneurship, arts, science, technology, engineering, and mathematics.

(c) In working to fulfill its mission and objectives, the Initiative shall, consistent with applicable law:

(i) identify and promote evidence-based best practices that can provide Hispanic and Latino students with a rigorous and well-rounded education in safe and healthy environments, as well as access to support services, that will improve their educational, professional, economic, and civic opportunities;

(ii) advance and coordinate efforts to ensure equitable opportunities for Hispanic and Latino students in the re-opening process for schools across the country, and take steps to ensure that Hispanic and Latino students, from early childhood to post-secondary education, can equitably recover from learning losses and other challenges faced during the COVID-19 pandemic;

(iii) encourage and develop partnerships with a national network of early childhood and early intervention providers, schools, institutions of higher education, and other public, private, philanthropic, and nonprofit stakeholders to improve access to educational equity and economic opportunities for Hispanics and Latinos;

(iv) monitor and support the development, implementation, and coordination of Federal Government educational, workforce, research, and business development policies, programs, and technical assistance designed to improve outcomes for historically underserved communities, including Hispanics and Latinos;

(v) work closely with the Executive Office of the President on key Administration priorities related to education, equity, and economic opportunity for Hispanics and Latinos; and

(vi) advise the Secretary on issues of importance and policies relating to educational equity, excellence, and economic opportunity for Hispanics and Latinos.

(d) The Initiative shall establish a Federal Interagency Working Group, which shall be convened by the Executive Director and shall support the efforts of the Initiative. The Interagency Working Group shall collaborate regarding resources and opportunities available across the Federal Government to increase educational and economic opportunities for Hispanics and Latinos.

(i) The Interagency Working Group shall consist of senior officials (designated by the heads of their respective departments, agencies, and offices) from the following:

(A) the Department of State;

(B) the Department of the Treasury;

(C) the Department of Defense;

(D) the Department of Justice;

(E) the Department of the Interior;

(F) the Department of Agriculture;

(G) the Department of Commerce;

(H) the Department of Labor;

(I) the Department of Health and Human Services;

(J) the Department of Housing and Urban Development;

(K) the Department of Transportation;

(L) the Department of Energy;

(M) the Department of Education;

(N) the Department of Veterans Affairs;

(O) the Department of Homeland Security;

(P) the White House Office of Management and Budget;

(Q) the White House Office of Science and Technology Policy;

(R) the Small Business Administration;

(S) the White House Domestic Policy Council;

(T) the White House Gender Policy Council;

(U) the White House Office of Public Engagement;

(V) the National Science Foundation;

(W) the National Aeronautics and Space Administration;

(X) the United States Agency for International Development; and

(Y) such additional executive departments, agencies, and offices as the Secretary may designate.

(ii) The Executive Director may establish subgroups of the Interagency Working Group to focus on different aspects of the educational system (such as HSIs, early childhood education, kindergarten through 12th grade education, children and adults with disabilities, teacher diversity, higher education, career and technical education, adult education, or correctional education and reengagement), economic opportunity (work-based learning, entrepreneurship, financial education, or mentorship) or educational challenges facing particular populations.

(e) Each executive department and agency (agency) designated to participate in the Interagency Working Group shall prepare a plan (Agency Plan) outlining measurable actions the agency will take to advance educational equity and economic opportunity for Hispanic and Latino communities, including their plans to implement the policy goals and directives outlined in section 2(b) of this order and other relevant work. These plans shall be submitted to the Chair on a date established by the Chair.

(i) As appropriate, each Agency Plan shall include:

(A) a description of the applicable agency's efforts to ensure that Federal programs and initiatives administered by the Department and other agencies are meeting the educational needs of Hispanics and Latinos, including by encouraging the agency to incorporate best practices into appropriate discretionary programs where the agency sees fit and as permitted by law;

(B) a description of how the applicable agency has and will decrease barriers to participation of Hispanics and Latinos in Federal employment and student engagement opportunities;

(C) a description of how the applicable agency can address challenges facing Hispanic and Latino students and higher education institutions that serve Hispanic and Latino students, such as HSIs, brought on by or exacerbated by the COVID-19 pandemic;

(D) a description of how the agency's Office of Civil Rights, if applicable, can address discriminatory policies and practices that limit educational and economic opportunity for Hispanics and Latinos;

(E) any other information the applicable agency determines is relevant to promoting educational opportunities for Hispanics and Latinos; and

(F) any additional criteria established by the Chair or the Initiative.

(ii) Each agency shall assess and report to the Chair on their progress in implementing the Agency Plan on a regular basis as established by the Chair.

(iii) The Initiative shall monitor and evaluate each agency's progress towards the goals established in its Agency Plan and shall coordinate with the agency to ensure that its Plan includes measurable and action-oriented goals.

(f) The Department shall provide funding and administrative support for the Initiative and the Interagency Working Group, to the extent permitted by law and within existing appropriations. To the extent permitted by law, including the Economy Act (31 U.S.C. 1535), other agencies and offices represented on the Interagency Working Group may detail personnel to the Initiative, to assist the Department in meeting the objectives of this order.

(g) To advance shared priorities and policies that advance equity and economic opportunity for underserved communities, the Initiative shall collaborate and coordinate with other White House Initiatives related to equity and opportunity.

(h) On an annual basis, the Chair shall report to the President on the Initiative's progress in carrying out its mission and function under this order.

Sec. 3. Presidential Advisory Commission. (a) There is established in the Department a Presidential Advisory Commission on Advancing Educational Equity, Excellence, and Economic Opportunity for Hispanics (Commission).

(b) The Commission shall provide advice to the President through the Secretary on matters pertaining to educational equity and economic opportunity for the Hispanic and Latino community, including:

(i) what is needed for the development, implementation, and coordination of educational programs and initiatives at the Department and other agencies to improve educational opportunities and outcomes for Hispanics and Latinos;

(ii) how to promote career pathways for in-demand jobs for Hispanic and Latino students, including registered apprenticeships, internships, fellowships, mentorships, and work-based learning initiatives;

(iii) ways to strengthen the capacity of institutions, such as HSIs, to equitably serve Hispanic and Latino students and increase the participation of Hispanic and Latino students, Hispanic-serving school districts, and the Hispanic community in the programs of the Department and other agencies;

(iv) how to increase public awareness of and generate solutions for the educational and training challenges and equity disparities that Hispanic and Latino students face and the causes of these challenges; and

(v) approaches to establish local and national partnerships with public, private, philanthropic, and nonprofit stakeholders to advance the mission and objectives of this order, consistent with applicable law.

(c) The Commission shall periodically report to the President, through the Secretary and after consulting with the Executive Director, on progress in addressing the mission of the Commission.

(d) The Commission shall consist of not more than 21 members appointed by the President. The Commission may include individuals with relevant experience or subject matter expertise, as well as individuals who may serve as representatives from a variety of sectors, including education (early childhood education, elementary and secondary education, higher education, career and technical education, and adult education), labor organizations, research institutions, public and private philanthropic organizations, private sector, nonprofit, and community-based organizations at the national, State, Tribal, regional, or local levels. Commission members should be able to provide specific insight into the lived experiences of those served by the Initiative, including young adults, and have diversity across the diaspora and the geography of the country.

(i) The President shall designate one member of the Commission to serve as its Chair. The Chair, in consultation with the Executive Director, shall convene regular meetings of the Commission, determine the Commission meeting agenda, and support the work of the Commission, consistent with this order.

(ii) The Commission shall meet on a regular basis, and at least twice a year.

(e) The Department shall provide funding and administrative support for the Commission, to the extent permitted by law and within existing appropriations. Members of the Commission shall serve without compensation but shall be allowed travel expenses, including per diem in lieu of subsistence, as authorized by law for persons serving intermittently in the Government service (5 U.S.C. 5701-5707). Insofar as the Federal Advisory Committee Act, as amended (5 U.S.C. App.), may apply to the administration of the Commission, any functions of the President under that Act, except that of reporting to the Congress, shall be performed by the Secretary, in accordance with guidelines issued by the Administrator of General Services.

(f) The Commission shall terminate 2 years from the date of this order, unless extended by the President.

Sec. 4. Administrative Provisions. (a) This order supersedes Executive Order 13935 of July 9, 2020 (White House Hispanic Prosperity Initiative), which is hereby revoked. To the extent that there are other Executive Orders that may conflict with or overlap with the provisions in this order, the provisions in this order supersede those other Executive Orders on these subjects.

(b) The heads of agencies shall assist and provide information to the Initiative and Commission established in this order, consistent with applicable law, as may be necessary to carry out the functions of the Initiative and Commission.

(c) Each agency shall bear its own expenses of participating in the Initiative established in this order.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 13, 2021.

[FR Doc. 2021-20165

Filed 9-15-21; 8:45 am]

Billing code 3295-F1-P